DEPARTMENT OF EDUCATION

National Assessment Governing Board

National Assessment Governing Board; Meeting

AGENCY: National Assessment Governing Board, Department of Education.

ACTION: Notice of open and closed meetings.

SUMMARY: This notice sets forth the agenda for the National Assessment Governing Board (hereafter referred to as Governing Board) meeting scheduled for May 12-13, 2022. This notice provides information about the meeting to members of the public who may be interested in attending and/or providing written comments related to the work of the Governing Board. Notice of this meeting is required under the Federal Advisory Committee Act (FACA).

ADDRESSES: Westin Crystal City, 1800 Richmond Highway, Arlington, VA 22202.

FOR FURTHER INFORMATION CONTACT: Munira Mwalimu, Executive Officer/Designated Federal Official for the Governing Board, 800 North Capitol Street NW, Suite 825, Washington, DC 20002, telephone: (202) 357-6906, fax: (202) 357-6945, email: Munira.Mwalimu@ed.gov.

SUPPLEMENTARY INFORMATION:

Statutory Authority and Function: The Governing Board is established under the National Assessment of Educational Progress Authorization Act, Title III of Public Law 107-279. Information on the Governing Board and its work can be found at www.nagb.gov.

The Governing Board formulates policy for the National Assessment of Educational Progress (NAEP) administered by the National Center for Education Statistics (NCES). The Governing Board's responsibilities include: (1) Selecting subject areas to be assessed; (2) developing assessment frameworks and specifications; (3) developing appropriate student achievement levels for each grade and subject tested; (4) developing standards and procedures for interstate and national comparisons; (5) improving the form and use of NAEP; (6) developing guidelines for reporting and disseminating results; and (7) releasing initial NAEP results to the public.

Standing Committee Meetings

The Governing Board's standing committees will meet to conduct regularly scheduled work planned for this Quarterly Board Meeting and any items undertaken by committees for consideration by the full Governing Board. (Please see committee meeting minutes for previous meetings, available at https://www.nagb.gov/governing-board/quarterly-board-meetings.html). Committee meeting agendas will be posted on the Governing Board's website www.nagb.gov five business days prior to the meetings.

Committee Meetings

Monday, May 9, 2022

Nominations Committee (Closed Session)

5:30 p.m.-7:00 p.m.

Thursday, May 12, 2022

Executive Committee Meeting

8:30 a.m.-9:00 a.m. (Open Session)

Friday, May 13, 2022

Reporting and Dissemination Committee (R&D)

8:30 a.m.-11:00 a.m. (Open Session)

Friday, May 13, 2022

Assessment Development Committee (ADC)

8:30 a.m.-10:45 a.m. (Open Session)

10:45 a.m.-11:00 a.m. (Closed Session)

Friday, May 13, 2022

Committee on Standards, Design and Methodology

8:30 a.m.-9:30 a.m. (Open Session)

9:30 a.m.-11:00 a.m. (Closed Session)

Quarterly Governing Board Meeting

The plenary sessions of the May 12-13, 2022 quarterly meeting of the Governing Board will be held on the following dates and times:

Thursday, May 12, 2022: Open Meeting: 9:15 a.m.-5:30 p.m.

Friday, May 13, 2022: Open Meeting: 11:15 a.m.-11:30 a.m.; Closed Meeting: 11:30 a.m.-3:30 p.m.

May 12, 2022 Meeting

On Thursday, May 12, 2022, the plenary session of the Governing Board meeting will meet in open session from 9:15 a.m. to 11:15 a.m. From 9:15 a.m. to 9:30 a.m. Chair Beverly Perdue will welcome members, review, and approve the May 12-13, 2022 quarterly Governing Board meeting agenda and minutes from the March 3-4, 2022 quarterly Governing Board meeting.

Thereafter, from 9:30 a.m. to 9:45 a.m. Lesley Muldoon, Executive Director of the Governing Board, will update members on ongoing work. From 9:45 a.m. to 10:00 a.m., Peggy Carr, Commissioner, National Center for Education Statistics (NCES), will provide an update on National Assessment of Educational Progress (NAEP) activities. Peggy Carr and Lesley Muldoon will then discuss proposed approaches to NAEP innovation from 10:00 a.m. to 11:15 a.m. followed by a 15-minute break.

The Governing Board will hear a panel presentation from 11:30 a.m. to 1:30 p.m. on State Perspectives on Opportunities for NAEP to Innovate. This session will be followed by a 15-minute break. The Governing Board will reconvene from 1:45 p.m. to 3:15 p.m. to receive a briefing from Daniel McGrath, Acting Associate Commissioner, NCES, on plans for analyzing and reporting NAEP 2022. Following a 15-minute break, the Vice Chair of the Assessment Development Committee will lead a discussion on the Board charge to the NAEP Science Assessment Framework Panels. The Director of the Institute of Education Sciences, Mark Schneider, then will provide an update from 4:30 p.m. to 5:00 p.m. After which, members will engage in open discussion from 5:00 p.m. to 5:30 p.m. before the meeting is adjourned on May 12, 2022.

Friday, May 13, 2022

The May 13, 2022 session will begin with standing committee meetings from 8:30 a.m. to 11:00 a.m., followed by a 15-minute break. From 11:15 a.m. to 11:30 a.m., the Governing Board will take action on the Charge to the NAEP Science Framework Panels.

The Governing Board will meet in closed session from 11:30 a.m. to 2:00 p.m. to participate in the NAEP Budget Workshop. This session must be closed to the public because the budget discussions pertain to current and future NAEP contracts and must be kept confidential to maintain the integrity of the federal acquisition process. Public disclosure of this confidential information would impede implementation of the NAEP assessment program if conducted in open session. Such matters are protected by exemption 9(B) of § 552b(c) of Title 5 of the United States Code.

Following a short break, the Governing Board will reconvene in the second closed session from 2:15 p.m. to 3:30 p.m. to receive and discuss results from the NAEP Achievement Level Descriptor Study in Mathematics and Reading. This briefing must be held in closed session because study results are not yet public. Public disclosure of secure results would impede implementation of the NAEP assessment program if conducted in open session. Such matters are protected by exemption 9(B) of § 552b(c) of Title 5 of the United States Code.

The May 13, 2022 session of the Governing Board meeting will adjourn at 3:30 p.m.

The Quarterly Board meeting and committee meeting agendas, together with meeting materials, will be posted on the Governing Board's website at www.nagb.gov no later than five working days prior to each meeting.

Access to Records of the Meeting: Pursuant to FACA requirements, the public may also inspect the meeting materials at www.nagb.gov five business days prior to each meeting. The official verbatim transcripts of the public meeting sessions will be available for public inspection no later than 30 calendar days following each meeting.

Reasonable Accommodations: The meeting is accessible to individuals with disabilities. If you will need an auxiliary aid or service to participate in the meeting (e.g., interpreting service, assistive listening device, or materials in an alternate format), notify the contact person listed in this notice no later than ten working days prior to each meeting.

Written Comment: Written comments related to the work of the Governing Board may be submitted electronically or in hard copy to the attention of the Executive Officer/Designated Federal Official (see contact information noted above).

Public Participation: Members of the public may attend all open sessions of the standing committees and open plenary sessions of the Governing Board meeting.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Public Law 107-279, Title III—National Assessment of Educational Progress § 301.

Munira Mwalimu,
Executive Officer, National Assessment Governing Board (NAGB), U.S. Department of Education.

[FR Doc. 2022-09001 Filed 4-26-22; 8:45 am]

BILLING CODE 4000-01-P